DEPARTMENT OF COMMERCE

National Oceanic and Atmospheric Administration

RIN 0648-XZ10

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Scientific and Statistical Committee (SSC) will hold a webinar.

DATES: The meeting will be held on Friday, October 1, 2010, from 2 p.m. to 4 p.m.

ADDRESSES: The webinar will be held at Mid-Atlantic Fishery Management Council, 800 N. State Street, Suite 201, Dover, DE 19901; telephone: (302) 674-2331.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to give the public the opportunity to comment on actions taken by the SSC at its meeting on September 21-22, 2010 to be held in Baltimore, MD. The agenda for the September 21-22, 2010 SSC meeting included the following topics: (1) new SSC member orientation, (2) review stock assessment information and specify overfishing level and acceptable biological catch for spiny dogfish for fishing years 2011-15; review and comment on proposed quota specifications and management measures for spiny dogfish for fishing years 2011-15, (3) progress report o Management Strategy Evaluation study; (4) review and comment on Council five year research plan, (5) discussed results of August 12-13, 2010 ACL Workshop and planned follow-up joint workshop with NEFSC and New England Fishery Management Council's SSC, (6) developed recommendations for stock assessment schedule, (7) set 2011 SSC schedule, (8) discussed development of Industry Advisory Panel Reports, and (9) discussed formation of SSC Ecosystem Subcommittee and development of ecosystem terms of reference for the Council.

Details about participation in the Webinar will be posted on the Council's website which can be accessed at www.mafmc.org. Members of the public may also access the webinar at the Council offices located at 800 North State Street, Suite 201, Dover, DE.

Special Accommodations

The meeting is physically accessible to people with disabilities. Requests for sign language interpretation or other auxiliary aids should be directed to M. Jan Saunders at the Mid-Atlantic Council Office, (302) 526-5251, at least 5 days prior to the meeting date.

Dated: September 14, 2010.
Tracey L. Thompson,
Acting Director, Office of Sustainable Fisheries, National Marine Fisheries Service.

[FR Doc. 2010-23204 Filed 9-16-10; 8:45 am]

BILLING CODE 3510-22-S